DEPARTMENT OF COMMERCE

National Oceanic and Atmospheric Administration

RIN 0648-XE847

Pacific Fishery Management Council; Public Meetings

AGENCY: National Marine Fisheries Service, National Oceanic and Atmospheric Administration, Commerce.

ACTION: Notice of public meetings.

SUMMARY: The Pacific Fishery Management Council (Pacific Council) and its advisory entities will hold public meetings.

DATES: The Pacific Council and its advisory entities will meet September 12-20, 2016. The Pacific Council meeting will begin on Thursday, September 15, 2016 at 10 a.m., reconvening at 8 a.m. each day through Tuesday, September 20, 2016. All meetings are open to the public, except a closed session will be held from 10 a.m. to 11 a.m., Thursday, September 15 to address litigation and personnel matters. The Pacific Council will meet as late as necessary each day to complete its scheduled business.

ADDRESSES: Meetings of the Council and its advisory entities will be held at the Riverside Hotel, 2900 Chinden Blvd., Boise, ID 83714; telephone: (208) 343-1871.

Council address: Pacific Fishery Management Council, 7700 NE Ambassador Place, Suite 101, Portland, OR 97220. Instructions for attending the meeting via live stream broadcast are given under SUPPLEMENTARY INFORMATION, below.

FOR FURTHER INFORMATION CONTACT: Mr. Chuck Tracy, Executive Director; telephone: (503) 820-2280 or (866) 806-7204 toll-free; or access the Pacific Council Web site, http://www.pcouncil.org for the current meeting location, proposed agenda, and meeting briefing materials.

SUPPLEMENTARY INFORMATION: The September 15-20, 2016 meeting of the Pacific Council will be streamed live on the internet. The broadcasts begin initially at 11 a.m. Pacific Time (PT) Thursday, September 15, 2016 and continue at 8 a.m. daily through Tuesday, September 20, 2016. Broadcasts end daily at 6 p.m. PT or when business for the day is complete. Only the audio portion and presentations displayed on the screen at the Pacific Council meeting will be broadcast. The audio portion is listen-only; you will be unable to speak to the Pacific Council via the broadcast. To access the meeting online please use the following link: http://www.gotomeeting.com/online/webinar/join-webinar and enter the September Webinar ID, 132-423-419 and your email address. You can attend the webinar online using a computer, tablet, or smart phone, using the GoToMeeting application. It is recommended that you use a computer headset to listen to the meeting, but you may use your telephone for the audio portion only of the meeting. The audio portion may be attended using a telephone by dialing the toll number 1-213-929-4212 (not a toll-free number), audio access code 447-457-678, and enter the audio pin shown after joining the webinar.

The following items are on the Pacific Council agenda, but not necessarily in this order. Agenda items noted as “Final Action” refer to actions requiring the Council to transmit a proposed fishery management plan, proposed plan amendment, or proposed regulations to the U.S. Secretary of Commerce, under sections 304 or 305 of the Magnuson-Stevens Fishery Conservation and Management Act. Additional detail on agenda items, Council action, advisory entity meeting times, and meeting rooms are described in Agenda Item A.5, Proposed Council Meeting Agenda, and will be in the advance September 2016 briefing materials and posted on the Council Web site at www.pcouncil.org.

A. Call to Order

1. Opening Remarks

2. Council Member Appointments

3. Roll Call

4. Executive Director's Report

5. Approve Agenda

B. Open Comment Period

1. Comments on Non-Agenda Items

C. Habitat

1. Current Habitat Issues

D. Ecosystem-Based Management

1. Fishery Ecosystem Plan Coordinated Ecosystem Indicator Review Initiative

2. Ecosystem-Based Fishery Management Roadmap

E. Coastal Pelagic Species Management

1. Minimum Stock Size Thresholds Report

2. Stock Assessment Workshop Report

3. Anchovy Management Update

4. Artisanal Fishery Management Issue Scoping

F. Groundfish Management

1. National Marine Fisheries Service Report

2. Methodology Review Preliminary Topic Selection

3. 2017-18 Harvest Specifications and Management Measures Rulemaking Update and Clarifications

4. Scoping of Trawl Sector Quota Pounds Trading

5. 5-Year Catch Share Program and Intersector Allocation Review Update

6. Inseason Management Final Action

7. Amendment 21 At-Sea Sector Set-Asides Final Action

8. Mid-Biennium Annual Catch Limit Adjustment and Rebuilding Harvest Rate Adjustment Policies

G. Administrative Matters

1. Legislative Matters

2. West Coast Regional Operating Agreement Initial Review

3. Fiscal Matters

4. Approval of Council Meeting Record

5. Membership Appointments and Council Operating Procedures

6. Future Council Meeting Agenda and Workload Planning

H. Salmon Management

1. Salmon Methodology Review

2. Sacramento River Winter Chinook Harvest Control Rule Update

I. Pacific Halibut Management

1. 2017 Catch Sharing Plan and Annual Regulation Changes

J. Highly Migratory Species Management

1. Update on International Issues

2. Exempted Fishing Permits

3. Biennial Harvest Specifications and Management Measures

4. Deep-Set Buoy Gear Exempted Fishing Permit Criteria to Advance Gear Authorization

5. Federal Drift Gillnet Permit Amendment

Advisory Body Agendas

Advisory body agendas will include discussions of relevant issues that are on the Council agenda for this meeting, and may also include issues that may be relevant to future Council meetings. Proposed advisory body agendas for this meeting will be available on the Council Web site http://www.pcouncil.org/council-operations/council-meetings/current-briefing-book/ no later than Wednesday, August 31, 2016.

Schedule of Ancillary Meetings
Day 1—Monday, September 12, 2016
SSC Ecosystem Subcommittee | 9 a.m.
Day 2—Tuesday, September 13, 2016
SSC Ecosystem Subcommittee | 9 a.m.
Ecosystem Advisory Subpanel | 1 p.m.
Ecosystem Workgroup | 1 p.m.
Day 3—Wednesday, September 14, 2016
Coastal Species Advisory Subpanel | 8 a.m.
Coastal Species Management Team | 8 a.m.
Groundfish Management Team | 8 a.m.
Scientific and Statistical Committee | 8 a.m.
Habitat Committee | 8:30 a.m.
Ecosystem Advisory Subpanel | 9 a.m.
Ecosystem Workgroup | 9 a.m.
Legislative Committee | 1 p.m.
Budget Committee | 2:30 p.m.
Day 4—Thursday, September 15, 2016
California State Delegation | 7 a.m.
Oregon State Delegation | 7 a.m.
Washington State Delegation | 7 a.m.
Coastal Pelagic Species Advisory Subpanel | 8 a.m.
Coastal Pelagic Species Management Team | 8 a.m.
Groundfish Advisory Subpanel | 8 a.m.
Groundfish Management Team | 8 a.m.
Salmon Advisory Subpanel | 8 a.m.
Scientific and Statistical Committee | 8 a.m.
Enforcement Consultants | 3 p.m.
Day 5—Friday, September 16, 2016
California State Delegation | 7 a.m.
Oregon State Delegation | 7 a.m.
Washington State Delegation | 7 a.m.
Groundfish Advisory Subpanel | 8 a.m.
Groundfish Management Team | 8 a.m.
Salmon Advisory Subpanel | 8 a.m.
Sacramento River Winter Chinook Workgroup | 8 a.m.
Enforcement Consultants | Ad hoc
Day 6—Saturday, September 17, 2016
California State Delegation | 7 a.m.
Oregon State Delegation | 7 a.m.
Washington State Delegation | 7 a.m.
Groundfish Advisory Subpanel | 8 a.m.
Groundfish Management Team | 8 a.m.
Highly Migratory Species Advisory Subpanel | 8 a.m.
Highly Migratory Species Management Team | 8 a.m.
Enforcement Consultants | Ad hoc
Day 7—Sunday, September 18, 2016
California State Delegation | 7 a.m.
Oregon State Delegation | 7 a.m.
Washington State Delegation | 7 a.m.
Groundfish Advisory Subpanel | 8 a.m.
Groundfish Management Team | 8 a.m.
Highly Migratory Species Advisory Subpanel | 8 a.m.
Highly Migratory Species Management Team | 8 a.m.
Enforcement Consultants | Ad hoc
Day 8—Monday, September 19, 2016
California State Delegation | 7 a.m.
Oregon State Delegation | 7 a.m.
Washington State Delegation | 7 a.m.
Highly Migratory Species Advisory Subpanel | 8 a.m.
Highly Migratory Species Management Team | 8 a.m.
Enforcement Consultants | Ad hoc
Day 9—Tuesday, September 20, 2016
California State Delegation | 7 a.m.
Oregon State Delegation | 7 a.m.
Washington State Delegation | 7 a.m.

Although non-emergency issues not contained in this agenda may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Mr. Kris Kleinschmidt at (503) 820-2280 at least 5 days prior to the meeting date.

Dated: August 24, 2016.
Jeffrey N. Lonergan,
Acting Deputy Director, Office of Sustainable Fisheries, National Marine Fisheries Service.

[FR Doc. 2016-20646 Filed 8-26-16; 8:45 am]

BILLING CODE 3510-22-P